DEPARTMENT OF LABOR

Employment and Training Administration

[TA-W-62,670]

Visteon Concordia VRAP, Concordia, MO; Notice of Termination of Investigation

Pursuant to section 221 of the Trade Act of 1974, as amended, an investigation was initiated on January 14, 2008 in response to a petition filed by the International Union, United Automobile, Aerospace and Agricultural Implement Workers of America on behalf of workers of Visteon Concordia VRAP, Concordia, Missouri.

The petitioner has requested that the petition be withdrawn. Consequently, the investigation has been terminated.

Signed at Washington, DC, this 23rd day of January, 2008.
Linda G. Poole,
Certifying Officer, Division of Trade Adjustment Assistance.

[FR Doc. E8-1827 Filed 1-31-08; 8:45 am]

BILLING CODE 4510-FN-P